DEPARTMENT OF THE INTERIOR

National Park Service

Notice of Inventory Completion: Sam Noble Oklahoma Museum of Natural History, University of Oklahoma, Norman, OK

AGENCY: National Park Service, Interior.

ACTION: Notice.

Notice is here given in accordance with the Native American Graves Protection and Repatriation Act (NAGPRA), 25 U.S.C. 3003, of the completion of an inventory of human remains in the possession of the Sam Noble Oklahoma Museum of Natural History, University of Oklahoma, Norman, OK. The human remains were removed from Crittendon, Mississippi, and Poinsett Counties, AR.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the Sam Noble Oklahoma Museum of Natural History and Oklahoma State Archeologist professional staff in consultation with representatives of the Quapaw Tribe of Indians, Oklahoma.

In 1933, human remains representing a minimum of two individuals were removed from Cummin's Place, also called Cumming's Place (Arkansas-7/130 and 7/131), in Poinsett County, AR, by Frank Newkumet. Mr. Newkumet loaned the human remains to the Oklahoma Museum of Natural History (now the Sam Noble Oklahoma Museum of Natural History) from 1933 until 1947. The museum purchased the collection from Mr. Newkumet in 1947. No known individuals were identified. No associated funerary objects are present. A deer bone found with the human remains at Arkansas-7/130 was not located during the inventory process.

In 1933, human remains representing a minimum of two individuals were removed from Upper Nodena Place (Arkansas-7/137 and 7/138) in Mississippi County, AR, by Frank Newkumet. Mr. Newkumet loaned the human remains to the Oklahoma Museum of Natural History from 1933 until 1947. The museum purchased the collection from Mr. Newkumet in 1947. No known individuals were identified. No associated funerary objects are present.

In 1959, human remains representing a minimum of three individuals were removed from the Banks site (Arkansas-31A) in Crittendon County, AR, by Greg Perino. Mr. Perino donated the human remains to the Oklahoma Museum of Natural History later that same year. No known individuals were identified. No associated funerary objects are present.

Diagnostic artifacts found at the Cummin's Place, Upper Nodena Place, and Banks sites indicate that the human remains are Native American and were probably buried during the Parkin phase of the Mississippian nucleation horizon (A.D. 1350-1650). The Parkin phase is characterized by Nodena leaf-shaped arrow points, Madison arrow points, pipe drills, chisels, adzes, use of basalt, conch shell beads, mushroom shaped beads, ear plugs, copper disks, discoidals, catlinite pipes, Parkin punctate and Barton incised pottery, Mississippian Plain pottery, effigy forms such as, head pots, compound vessels, and occasionally red and white Nodena ware. Although many of these types of artifacts were found at the sites, none of the artifacts besides the missing deer bone are considered associated funerary objects because they were not found in a burial context nor is there any other information that attests to their being from a burial context. Many of the Parkin phase artifact traits continued to be practiced by people later identified as Quapaw. European documentation concerning the geographical range of the Quapaw people supports their presence in the northeastern part of Arkansas. Present-day descendants of the Quapaw people are members of the Quapaw Tribe of Indians, Oklahoma.

Officials of the Sam Noble Oklahoma Museum of Natural History have determined that, pursuant to 25 U.S.C. 3001 (9-10), the human remains described above represent the physical remains of seven individuals of Native American ancestry. Officials of the Sam Noble Oklahoma Museum of Natural History also have determined that, pursuant to 25 U.S.C. 3001 (2), there is a relationship of shared group identity that can be reasonably traced between the Native American human remains and the Quapaw Tribe of Indians, Oklahoma.

Representatives of any other Indian tribe that believes itself to be culturally affiliated with the human remains should contact Dr. Ellen Censky, Director, Sam Noble Oklahoma Museum of Natural History, University of Oklahoma, 2401 Chautauqua, Norman, OK 73072, telephone (405) 325-4712, before January 27, 2006. Repatriation of the human remains to the Quapaw Tribe of Indians, Oklahoma may proceed after that date if no additional claimants come forward.

Sam Noble Oklahoma Museum of Natural History is responsible for notifying the Quapaw Tribe of Indians, Oklahoma that this notice has been published.

Dated: December 3, 2005.
Sherry Hutt,
Manager, National NAGPRA Program.

[FR Doc. E5-7886 Filed 12-27-05; 8:45 am]

BILLING CODE 4312-50-S